DEPARTMENT OF AGRICULTURE

Agricultural Marketing Service

[Docket Number FV-05-301]

United States Standards for Grades of Strawberries

AGENCY: Agricultural Marketing Service, USDA.

ACTION: Notice.

SUMMARY: The Agricultural Marketing Service (AMS) of the Department of Agriculture (USDA) is soliciting comments on its proposal to revise the United States Standards for Grades of Strawberries. Based on a request from the California Strawberry Commission (CSC), AMS is proposing to modify the standards to allow that percentages be determined by count rather than volume. The proposed revision will make tolerance determination more objective and uniform.

DATES: Comments must be received by November 7, 2005.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Strawberries are available either through the address cited above or by accessing the Fresh Products Branch Web site at: http://www.ams.usda.gov/standards/stanfrfv.htm.

FOR FURTHER INFORMATION CONTACT: Cheri L Emery, at the above address or call (202) 720-2185, E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements no longer appear in the Code of Federal Regulations, but are maintained by USDA/AMS/Fruit and Vegetable Programs.

AMS is proposing to revise the voluntary United States Standards for Grades of Strawberries using procedures that appear in part 36, title 7 of the Code of Federal Regulations (7 CFR part 36). These standards were last revised in 1965.

Background

AMS received a request from the CSC requesting a revision to the United States Standards for Grades of Strawberries to allow that percentages be determined by count rather than volume.

Prior to undertaking research and other work associated with a revision of the grade standards, AMS decided to seek public comments on the request. On March 11, 2005, AMS published a notice in the Federal Register (70 FR 12175) soliciting comments on a possible revision to the United States Standards for Grades of Strawberries.

In response to our request for comments, AMS received five comments from industry groups. Four comments were in favor of the revision to the standard and one comment was opposed. The comments are available by accessing AMS's Home Page on the Internet at: http://www.ams.usda.gov/fv/fpbdocketlist.htm.

The one comment opposing the revision stated, “To change to a count-based system would treat berries of varying sizes equally. This may be more expeditious, but from our perspective reduces the relevance and effectiveness of USDA inspections.” By changing to a count basis each berry will represent the same percentage of the container regardless of the size of the berry. Currently, each inspector must determine the volume of each berry in relation to the container based on a visual estimation. Modifying the standards to allow that percentages be determined by count will provide more objectivity to an inspection.

AMS received four comments in favor of the revision. Those in favor of the revision stated the proposed rule change follows changing industry practices and market demand by replacing a subjective volume determination, with a more preferred and easily understood objective measurement.

AMS believes the proposed revision to allow percentages to be determined by count rather than volume would establish a clear uniform procedure for determining the percentages. Additionally, AMS is proposing to eliminate the unclassified category. This section is being removed in all standards, when they are revised. This category is not a grade and only serves to show that no grade has been applied to the lot. It is no longer considered necessary.

The official grade of a lot of strawberries covered by these standards is determined by the procedures set forth in the Regulations Governing Inspection, Certification, and Standards of Fresh Fruits, Vegetables and Other Products (Sec. 51.1 to 51.61).

This notice provides a 60-day comment period for interested parties to comment on changes to the standard.

Authority: 7 U.S.C. 1621-1627.

Dated: September 1, 2005.
Lloyd C. Day,
Administrator, Agricultural Marketing Service.

[FR Doc. 05-17708 Filed 9-6-05; 8:45 am]

BILLING CODE 3410-02-P